DEPARTMENT OF COMMERCE

National Institute of Standards and Technology

National Artificial Intelligence Advisory Committee

AGENCY: National Institute of Standards and Technology, Department of Commerce.

ACTION: Notice of Federal Advisory Committee open meeting.

SUMMARY: The National Institute of Standards and Technology (NIST) announces that the National Artificial Intelligence Advisory Committee (NAIAC or Committee) will hold a hybrid, open meeting on Wednesday, October 12, 2022, from 9:00 a.m. to 4:30 p.m. and Thursday, October 13, 2022, from 9:30 a.m. to 12:30 p.m. Pacific Daylight Time. NAIAC members will discuss how to direct their input into actionable recommendations. These final recommendations will be presented to the President and National Artificial Intelligence Initiative Office. The final agenda will be posted to the NAIAC website: https://www.ai.gov/naiac/.

DATES: The meeting will be held on Wednesday, October 12, 2022, from 9:00 a.m. to 4:30 p.m. and Thursday, October 13, 2022, from 9:30 a.m. to 12:30 p.m. Pacific Daylight Time.

ADDRESSES: The meeting will be open to the public via webcast. Registration is not required to watch the live webcast, but those interested in watching live are encouraged to register for alerts. Limited space is also available on a first-come, first-served basis for anyone who wishes to attend in person at Stanford University, 450 Serra Mall, Stanford, CA 94305. Registration for in-person attendance is required. Please see the SUPPLEMENTARY INFORMATION section of this notice for additional details. NAIAC members may attend the meeting via webcast or in-person.

FOR FURTHER INFORMATION CONTACT: Alicia Chambers, Committee Liaison Officer, National Institute of Standards and Technology, 100 Bureau Drive, MS 1000, Gaithersburg, MD 20899, alicia.chambers@nist.gov or 301-975-5333, or Melissa Banner, Designated Federal Officer, National Institute of Standards and Technology, 100 Bureau Drive, MS 1000, Gaithersburg, MD 20899, melissa.banner@nist.gov.

SUPPLEMENTARY INFORMATION: Pursuant to the Federal Advisory Committee Act, as amended, 5 U.S.C. App., notice is hereby given that the NAIAC will hold an open meeting on Wednesday, October 12, 2022, from 9:00 a.m. to 4:30 p.m. and Thursday, October 13, 2022, from 9:30 a.m. to 12:30 p.m. Pacific Daylight Time. For more information please visit: https://www.ai.gov/naiac/.

The NAIAC is authorized by Section 5104 of the National Artificial Intelligence Initiative Act of 2020 (Pub. L. 116-283), in accordance with the provisions of the Federal Advisory Committee Act, as amended (FACA), 5 U.S.C. App. The Committee advises the President and the National Artificial Intelligence Initiative Office on matters related to the National Artificial Intelligence Initiative. Additional information on the NAIAC is available at https://www.ai.gov/naiac/.

Comments: Individuals and representatives of organizations who would like to offer comments and suggestions or ask questions related to the NAIAC's business are invited to submit comments and questions in advance of the meeting. Written comments and questions may be submitted to the DFO, Melissa Banner, via email to: melissa.banner@nist.gov with the subject line “October 12-13, 2022, NAIAC Meeting Comments.” Comments and questions must be received by 5:00 p.m. Pacific Daylight Time, Wednesday, October 5, 2022, to be considered. Please note that all submitted comments will be treated as public documents and will be made available for public inspection.

Admittance Instructions: Registration is not required to watch the live webcast, however, anyone interested in receiving notifications is encouraged to register to receive notifications at: https://www.ai.gov/naiac/. Anyone wishing to attend this meeting in-person must register via the registration link available at https://www.ai.gov/naiac/ by 5:00 p.m. Eastern Daylight Time, Wednesday, October 5, 2022. Please note that due to requirements for social distancing in the meeting room, limited space is available in the meeting room and registration will be available on a first-come, first-served basis.

Alicia Chambers,
NIST Executive Secretariat.

[FR Doc. 2022-20801 Filed 9-23-22; 8:45 am]

BILLING CODE 3510-13-P